DEPARTMENT OF THE INTERIOR

Fish and Wildlife

Notice of Availability of Draft Comprehensive Conservation Plan and Environmental Assessment for Necedah National Wildlife Refuge, Wood and Juneau Counties, Wisconsin

AGENCY: Fish and Wildlife Service, Interior.

ACTION: Notice of availability.

SUMMARY: Pursuant to the Refuge Improvement Act of 1997, the U.S. Fish and Wildlife Service (Service) has published the Necedah National Wildlife Refuge (Refuge) Draft Comprehensive Conservation Plan and associated Environmental Assessment. The Draft Plan describes how the Service intends to manage the Refuge for the next 10-15 years.

DATES: Submit written comments by August 25, 2000. All comments should be addressed to: Tom Magnuson, U.S. Fish and Wildlife Service, 1 Federal Drive, Room 530, Fort Snelling, Minnesota 55111. Comments may also be submitted through the Service's regional Web site at: http://midwest.fws.gov/planning.

ADDRESSES: A copy of the Draft Comprehensive Conservation Plan and Environmental Assessment, or a summary of the combined document, may be obtained by writing to Tom Magnuson at the address above or by placing a request through the Web site.

FOR FURTHER INFORMATION CONTACT: For additional information contact Larry Wargowsky, Necedah National Wildlife Refuge, W7996 20th Street West, Necedah, Wisconsin 54646-7531. Phone: 608-565-2551; E-Mail: larry_wargowsky@fws.gov

SUPPLEMENTARY INFORMATION: The Refuge was established in 1939 as a refuge and breeding ground for migratory birds and for use as an inviolate sanctuary for migratory birds. It is located in central Wisconsin, about 180 miles southeast of Minneapolis, Minnesota, 150 miles northwest of Milwaukee, Wisconsin, and about four miles west of Necedah, Wisconsin.

The history of the Refuge dates back to the early 1930s when the U.S. Government acquired 114,964 acres of land in Juneau, Wood, Monroe, and Jackson counties, Wisconsin, to assist farmers living within the area and to develop the area for wildlife.

Situated on the bed of former Glacial Lake Wisconsin and the Great Central Wisconsin Swamp, land in and around the Refuge was once a vast peat bog with some low wooded islands and savannas; the higher sand ridges were occupied by mature stands of pines and other species. Today, the Refuge consists of 43,696 acres of wetlands and open water areas; pine, oak, and aspen forests; grasslands and rare savannas, all of which support a rich diversity of fish, wildlife, and plant populations. Over 230 different species of birds have been observed on the Refuge since its inception. The Refuge also supports several threatened, endangered, and rare species like the Karner blue butterfly, Blanding's turtle, and the eastern massasauga rattlesnake, as well as resident game species including the white-tailed deer, wild turkey, and ruffed grouse. In addition, nearly 150,000 people visit the Refuge annually to hunt, fish, hike, observe and photograph wildlife, pick berries, or relax among the trees, wetlands, and wildlife.

Management of the Refuge is carried out by a multi-disciplined team of biologists, technicians, and support staff who are recognized leaders in their fields. Protecting, restoring, and maintaining biologically diverse and productive wetlands, forest land, grasslands, and savannas for fish and wildlife resources are key indicators of management success. Management tools involve water level manipulation, prescribed burning, timber harvest, land acquisition, and public outreach and environmental education. Scientifically rigorous monitoring and research activities create the foundation from which quality management decisions are made. Cooperative working relationships with universities, other Federal agencies, the State of Wisconsin, elementary and secondary educational institutions, and non-governmental organizations are key assets to management success.

Dated: July 26, 2000.
Marvin E. Moriarty,
Acting Regional Director.

[FR Doc. 00-19325 Filed 7-31-00; 8:45 am]

BILLING CODE 4310-55-M